DEPARTMENT OF ENERGY

Federal Energy Regulatory Commission

[Docket No. RP01-59-000]

El Paso Natural Gas Company; Notice of Proposed Changes in FERC Gas Tariff

October 25, 2000.

Take notice that on October 20, 2000, El Paso Natural Gas Company (El Paso) tendered for filing as part of its FERC Gas Tariff, Second Revised Volume No. 1-A, Third Revised Sheet No. 293, with an effective date of November 20, 2000.

El Paso states that it is also filing a revised Statement on Standards of Conduct. El Paso states that this filing updates El Paso's Standards of Conduct and related tariff sheet.

Any person desiring to be heard or to protest said filing should file a motion to intervene or a protest with the Federal Energy Regulatory Commission, 888 First Street, NE., Washington, DC 20426, in accordance with Section 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Beginning November 1, 2000, comments and protests may be filed electronically via the internet in lieu of paper. See, 18 CFR 385.2001(a)(1)(iii) and the instructions on the Commission's web site at http:

//www.ferc.fed.us/efi/doorbell.htm.

David P. Boergers,
Secretary.

[FR Doc. 00-27856 Filed 10-30-00; 8:45 am]

BILLING CODE 6717-01-M